ENVIRONMENTAL PROTECTION AGENCY

[EPA-HQ-OW-2011-0520; FRL-9667-2]

40 CFR Part 147

State of Tennessee; Underground Injection Control (UIC) Program Primacy

AGENCY: U.S. Environmental Protection Agency (EPA).

ACTION: Notice of public comment period and of public hearing.

SUMMARY: The purpose of this notice is to announce that: 1 the EPA has received a complete application from the State of Tennessee requesting approval of its Underground Injection Control program; 2 the EPA has determined the application contains all the required elements; 3 the application is available for inspection and copying at the address appearing below; 4 public comments are requested; and (5) a public hearing will be held.

DATES: Requests for a public hearing and/or to present oral testimony must be received by May 31, 2012; if determined to be warranted, the Public Hearing will be held on June 7, 2012 at 1:00 p.m. Requests to testify may be mailed to Fred McManus, Chief, Ground Water and SDWA Enforcement Section, U.S. Environmental Protection Agency, Region 4, 61 Forsyth Street SW., Atlanta, Georgia 30303. If it is determined that a hearing is warranted, it will be held on the 17th Floor Conference Room B, L&C Tower, 401 Church Street, Nashville, Tennessee 37243. Comments will be accepted until June 14, 2012. The EPA will determine by June 4, 2012, whether there is sufficient interest to warrant a public hearing. Contact Nancy H. Marsh to determine if a hearing is warranted (see the FOR FURTHER INFORMATION CONTACT section).

ADDRESSES: Submit your comments, identified by Docket ID No. EPA-HQ-OW-2011-0520, by one of the following methods:

• www.regulations.gov: Follow the on-line instructions for submitting comments.

• Email: marsh.nancy@epa.gov.

• Fax: (404) 562-9439.

• Mail: State of Tennessee; Underground Injection Control (UIC) Program Primacy, U.S. Environmental Protection Agency, Mailcode: 2822T, 1200 Pennsylvania Ave. NW., Washington, DC 20460. Hand Delivery: Water Docket, EPA Docket Center (EPA/DC) EPA West, Room 3334, 1301 Constitution Ave. NW., Washington, DC. Such deliveries are only accepted during the Docket's normal hours of operation, and special arrangements should be made for deliveries of boxed information.

Instructions: Direct your comments to Docket ID No. EPA-HQ-OW-2011-0520. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket, visit the EPA Docket Center homepage at http://www.epa.gov/epahome/dockets.htm of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the following locations:

U.S. Environmental Protection Agency, Region 4, Library, 9th Floor, 61 Forsyth Street SW., Atlanta, Georgia 30303. The Library is open from 9:00 a.m.-4:00 p.m. Monday through Friday, excluding legal holidays. The telephone number for the Library is (404) 562-8190.

Tennessee Department of Environment and Conservation, 6th Floor, 401 Church Street, Nashville, Tennessee 32743, The Library is open from 9:00 a.m.-4:00 p.m. Monday through Friday, excluding legal holidays. The telephone number for the Library is (615) 532-0191.

State of Tennessee; Underground Injection Control (UIC) Program Primacy Docket, EPA/DC, EPA West, Room 3334, 1301 Constitution Ave. NW., Washington, DC. The Public Reading Room is open from 8:30 a.m.-4:30 p.m., Monday through Friday, excluding legal holidays. The telephone number for the Public Reading Room is (202) 566-1744, and the telephone number for the OW Docket is (202) 566-2426.

FOR FURTHER INFORMATION CONTACT: Nancy H. Marsh, Safe Drinking Water Branch, U.S. Environmental Protection Agency, Region 4, 61 Forsyth Street SW., Atlanta, Georgia 30303; telephone number: 404-562-9450. Fax number: 404-562-9439; email address: marsh.nancy@epa.gov. Comments should also be sent to this address.

SUPPLEMENTARY INFORMATION: The State of Tennessee has submitted an application to regulate Class I, II, III, IV and V injection wells in the State. The application was determined to be complete because it included all of the requirements of 40 CFR § 145.22(a): a letter from the Governor requesting program approval; a complete description of the State Underground Injection Control program; a statement of legal authority; a memorandum of agreement between the State of Tennessee and the EPA, Region 4; copies of all applicable rules and forms; and a showing of the State's public participation process prior to program submission.

Dated: April 19, 2012.
A. Stanley Meiburg,
Acting Regional Administrator, Region 4.

[FR Doc. 2012-10619 Filed 5-2-12; 8:45 am]

BILLING CODE 6560-50-P